DEPARTMENT OF HEALTH AND HUMAN SERVICES

Substance Abuse and Mental Health Services Administration

Office for Women's Services; Notice of a Meeting

Pursuant to Pub. L. 92-463, notice is hereby given of a Substance Abuse and Mental Health Services Administration's (SAMHSA) Advisory Committee for Women's Services teleconference meeting on June 21, 2005.

The meeting will be open and include discussions on SAMHSA's women's issues as they relate to the Agency's priority matrix. The meeting will also include discussions on the Agency's current administrative, legislative and policy developments.

Attendance by the public will be limited to space available. Public comments are welcome. Please communicate with the individual listed as contact below to make arrangements to comment or to request special accommodations for persons with disabilities.

Substantive program information and a roster of Committee members may be obtained by accessing the SAMHSA Advisory Council's Web site (http://www.samhsa.gov) as soon as possible after the meeting or by communicating with the contact whose name and telephone number are listed below. The transcript for the session will also be available on the SAMHSA Advisory Council Web site as soon as possible after the meeting.

Committee Name: Substance Abuse and Mental Health Services Administration Advisory Committee for Women's Services.

Meeting Date: June 21, 2005, 1 p.m.-3 p.m.

Place: 1 Choke Cherry Road, Conference Room 8-1082, Rockville, MD 20857.

Type: Open.

Contact: Carol Watkins, Executive Secretary, Advisory Committee for Women's Services, 1 Choke Cherry Road, Room 8-1002, Rockville, MD 20857, Telephone: (240) 276-2254, Fax: (240) 276-2252, E-mail: carol.watkin2@samhsa.gov.

Dated: June 6, 2005.
Toian Vaughn,
Committee Management Officer, Substance Abuse and Mental Health Services Administration.

[FR Doc. 05-11618 Filed 6-10-05; 8:45 am]

BILLING CODE 4162-20-P